DEPARTMENT OF AGRICULTURE

Animal and Plant Health Inspection Service

[Docket No. APHIS-2018-0089]

Notice of Request for Approval of an Information Collection; Volunteer Service Agreements and Volunteer Service Time and Attendance Record

AGENCY: Animal and Plant Health Inspection Service, USDA.

ACTION: New information collection; comment request.

SUMMARY: In accordance with the Paperwork Reduction Act of 1995, this notice announces the Animal and Plant Health Inspection Service's intention to request approval of a new information collection associated with volunteer service agreements and volunteer service time and attendance record.

DATES: We will consider all comments that we receive on or before February 25, 2019.

ADDRESSES: You may submit comments by either of the following methods:

• Federal eRulemaking Portal: Go to http://www.regulations.gov/#!docketDetail;D=APHIS-2018-0089.

• Postal Mail/Commercial Delivery: Send your comment to Docket No. APHIS-2018-0089, Regulatory Analysis and Development, PPD, APHIS, Station 3A-03.8, 4700 River Road Unit 118, Riverdale, MD 20737-1238.

Supporting documents and any comments we receive on this docket may be viewed at http://www.regulations.gov/#!docketDetail;D=APHIS-2018-0089 or in our reading room, which is located in room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on volunteer service agreements and volunteer service time and attendance record, contact Ms. Beverly Cassidy, HR Specialist, HR Policy, HRD, APHIS, 4700 River Road Unit 21, Riverdale, MD, 20737; (301) 851-2914. For more detailed information on the information collection, contact Ms. Kimberly Hardy, APHIS' Information Collection Coordinator, at (301) 851-2483.

SUPPLEMENTARY INFORMATION:

Title: Volunteer Service Agreements and Volunteer Service Time and Attendance Record.

OMB Control Number: 0579-XXXX.

Type of Request: Approval of a new information collection.

Abstract: Section 1526 of the Food and Agricultural Act of 1981 (7 U.S.C. 2272) permits the Secretary of Agriculture to establish a program to use volunteers to carry out U.S. Department of Agriculture (USDA) programs. Departmental Regulation No. 4230-001, Volunteer Programs, provides the guidelines USDA agencies must use for acceptance of volunteers and sets a requirement for agencies to publish their guidelines. Regulations of the Office of Personnel Management (OPM) in 5 CFR part 308 provide agencies with the authority to establish programs designed to provide educationally related volunteer assignments for students in nonpay status.

The Marketing and Regulatory Programs (MRP) mission area of USDA uses several information collection activities to assist MRP program officials, administrative personnel, and USDA Human Resources offices in determining a volunteer's eligibility and suitability for volunteer service. The information is necessary to facilitate establishment of guidelines for acceptance of volunteer services under the above authorities and regulations, make a determination of an individual's eligibility and suitability to serve as a volunteer in MRP, and comply with OPM regulations requiring documentation of volunteer service and maintenance of records.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.22 hours per response.

Respondents: Individuals engaged in activities for which they are not paid, except for authorized expenses associated with performance of volunteer activities.

Estimated annual number of respondents: 85.

Estimated annual number of responses per respondent: 2.

Estimated annual number of responses: 170.

Estimated total annual burden on respondents: 38 hours. (Due to averaging, the total annual burden hours may not equal the product of the annual number of responses multiplied by the reporting burden per response.)

All responses to this notice will be summarized and included in the request for OMB approval. All comments will also become a matter of public record.

Done in Washington, DC, this 19th day of December 2018.
Kevin Shea,
Administrator, Animal and Plant Health Inspection Service.

[FR Doc. 2018-27847 Filed 12-21-18; 8:45 am]

BILLING CODE 3410-34-P